SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: November 1-30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above: Grandfathering Registration Under 18 CFR part 806, subpart E:

1. Byler Golf Management, Inc.—Blue Mountain Golf Course, GF Certificate No. GF-201911052, Bethel Township, Lebanon County, Pa.; Well 1; Issue Date: November 13, 2019.

2. Crown Club LP—Colonial Golf & Tennis Club, GF Certificate No. GF-201911053, Lower Paxton Township, Dauphin County, Pa.; Paxton Creek and consumptive use; Issue Date: November 13, 2019.

3. Dover Township—Public Water Supply System, GF Certificate No. GF-201911054, Dover Township, York County, Pa.; Wells 2, 3, 4, 5, 6, and 7; Issue Date: November 13, 2019.

4. SUEZ Water Pennsylvania Inc.—Shavertown Operation, GF Certificate No. GF-201911055, Dallas and Kingston Townships, Luzerne County, Pa.; Hassold Well; Issue Date: November 13, 2019.

5. Towanda Country Club, GF Certificate No. GF-201911056, Wysox Township, Bradford County, Pa.; Well 1 and Ponds 1, 2, and 3; Issue Date: November 13, 2019.

6. Williamsburg Municipal Authority—Public Water Supply System, GF Certificate No. GF-201911057, Woodbury Township, Blair County, Pa.; Wells 1 and 2; Issue Date: November 13, 2019.

7. Village of Homer—Public Water Supply System, GF Certificate No. GF-201911058, Village of Homer, Cortland County, N.Y.; Wells 2 and 3; Issue Date: November 20, 2019.

8. Pennsylvania Fish & Boat Commission—Tylersville State Fish Hatchery, GF Certificate No. GF-201911059, Logan Township, Clinton County, Pa.; Tylersville Spring; Issue Date: November 20, 2019

Authority: Pub. L. 91-575, 84 Stat. 1509 et seq., 18 CFR parts 806 and 808.

Dated: December 10, 2019.
Jason E. Oyler,
General Counsel and Secretary to the Commission.

[FR Doc. 2019-26928 Filed 12-12-19; 8:45 am]

BILLING CODE 7040-01-P